SMALL BUSINESS ADMINISTRATION

[License No. 09/79-0454]

Emergence Capital Partners SBIC, L.P.; Notice Seeking Exemption Under Section 312 of the Small Business Investment Act, Conflicts of Interest

Notice is hereby given that Emergence Capital Partners SBIC, L.P., 160 Bovet Road, Suite 300, San Mateo, CA 94402, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Emergence Capital Partners SBIC, L.P., proposes to provide equity financing to DVDPlay, Inc. (“DVDPlay”), 695 Campbell Technology Parkway, Suite 200, Campbell, CA 95008. The financing is contemplated to fund the ongoing operating needs of the business.

The financing is brought within the purview of § 107.730(a)(1) of the Regulations because Emergence Capital Partners, L.P., and Emergence Capital Associates, L.P., all Associates of Emergence Capital Partners SBIC, L.P., own more than ten percent of DVDPlay, and therefore DVDPlay is considered an Associate of Emergence Capital Partners SBIC, L.P., as detailed in § 107.50 of the Regulations.

Notice is hereby given that any interested person may submit written comments on the transaction to the Associate Administrator for Investment, U.S. Small Business Administration, 409 Third Street, SW., Washington, DC 20416.

March 12, 2007.
Jaime Guzmán-Fournier,
Associate Administrator for Investment.

[FR Doc. E7-5958 Filed 3-30-07; 8:45 am]

BILLING CODE 8025-01-P